NATIONAL SCIENCE FOUNDATION

Emergency Clearance; Public Information Collection Requirements Submitted to the Office of Management and Budget; Notice

AGENCY: National Science Foundation.

ACTION: Emergency Clearance: Public Information Collection Requirements Submitted to the Office of Management and Budget (OMB).

SUMMARY: The National Science Foundation (NSF) is announcing plans to request approval of this collection. In accordance with the requirement of Section 3506(c)(2)(A) of the Paperwork Reduction Act of 1995 (Pub. L. 104-13), we are providing an opportunity for public comment on this action. After obtaining and considering public comment, NSF will prepare the submission requesting that OMB approve clearance of this collection for no longer than 3 years.

DATES: Interested persons are invited to send comments regarding the burden or any other aspect of these collections of information requirements by September 20, 2007.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov, and Office of Information and Regulatory Affairs, Office of Management and Budget, Room 10235, New Executive Office Building, Washington, DC 20503. Attn: John Kraemer, NSF Desk Officer.

Comments: Written comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

NSF has determined that it cannot reasonably comply with the normal clearance procedures under 5 CFR 1320 because normal clearance procedures are reasonably likely to prevent or disrupt the collection of information. NSF is requesting emergency review from OMB of this information collection to enable the Emergency review and approval of this ICR will assure continuation of the PFF evaluation that is also funded by the Atlantic Philanthropies. OMB approval has been requested for September 24, 2007. If granted, the emergency approval is only valid for 90 days.

During this same period, a regular review of this information collection will be undertaken. During the regular review period, the NSF requests written comments and suggestions from the public and affected agencies concerning this information collection. Comments are encouraged and will be accepted until October 22, 2007 to be assured of consideration. Comments received after that date will be considered to the extent practicable.

FOR FURTHER INFORMATION CONTACT: Suzanne H. Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION: OMB Approval Number: OMB 3145-0058.

Expiration Date: January 31, 2010.

Overview of this information collection: The Federal Funding Accountability and Transparency Act (FFATA) of 2006 (Pub. L. 109-282) requires agencies to make award and sub-award information available to be searched by the public in a single searchable Web site developed by the Office of Management and Budget (OMB). The impetus for this Act was the lack of a single source of accurate, complete and timely information on federal government spending.¹ The requirements and residual technical and policy impacts of FFATA were unanticipated at the time the prior information clearance package was cleared by OMB. In order to meet the legislative mandate and Congressional intent of FFATA, NSF needs a reliable source of data and the ability to validate the accuracy of that data. The change that is being proposed by NSF, therefore, is essential to ensuring compliance with FFATA requirements. If NSF cannot collect and validate the accuracy of award data, NSF will miss the deadline imposed by Congress to make award data publicly available by January 1, 2008.

¹ Source: Chairman's Statement, Senator Tom Coburn, N.D. (R-OK), What You Don't Know Can Hurt You: S. 2590, the “Federal Funding Accountability and Transparency Act of 2006” (July 18, 2006).

NSF is committed to providing citizens accurate, complete, and timely information regarding the expenditure of taxpayer funds. The policy change for which NSF is seeking approval will enable the Foundation to accomplish this goal. If NSF must follow the normal OIRA clearance review process, the result will be incomplete and inaccurate award data on OMB's single searchable Web site.

Consult With Other Agencies & the Public

The policy change identified is consistent with a previously established Government-wide standard imposed by Grants.gov as part of its registration process. (Reference OMB Clearance Number: 4040-0001, Expiration Date: 04/30/2008). Grants.gov currently has 103,000 Authorized Organizational Representatives registered in the system. As reiterated below, 93.1% of organizations that submitted proposals to NSF in FY06 are already registered in CCR. Implementing this policy change, will make NSF's registration requirement consistent with that currently in use by all other Federal granting agencies.

NSF also plans to announce this proposed change at an upcoming Federal Demonstration Partnership meeting in September to gauge community response to this policy change. Finally, NSF plans to communicate with its small business community to obtain feedback as well as post a notice on the NSF Web site regarding the Foundation's plans in this area. The estimated impact of this change is described more fully below.

Background

FFATA specifies requisite information (14 data elements) that must be included for each award, one of which is the unique identifier for the entity. OMB Memorandum, “Reporting of Data Elements Required by the Federal Funding Accountability and Transparency Act,” (dated March 30, 2007) defines the unique identifier for the entity as the Data Universal Numbering System (DUNS) number.

In accordance with the OMB policy “Use of a Universal Identifier by Grant Applicants,” (June 27, 2003) [68 FR 38402], NSF collects DUNS numbers for all awardees. While NSF collects this information, NSF currently does not have a mechanism to validate the accuracy of the DUNS number provided by the organization during the FastLane proposal submission process.

In order to meet the legislative mandate and Congressional intent of FFATA, NSF needs a reliable source of data to validate the accuracy of the DUNS number provided by the organization. NSF has identified the Central Contractor Registration (CCR) database as the most complete and accurate data source. The CCR system is managed under the Integrated Acquisition Environment (IAE) Presidential Management Agenda (PMA) E-Gov initiative. IAE is sponsored by OMB and managed by the General Services Administration. CCR is the primary registrant database for the U.S. Government. CCR collects, validates, stores, and disseminates data in support of agency acquisition missions, including Federal agency contract and assistance awards.

All contractors that do business with the Federal government and all grantees that use Grants.gov are required to register in CCR prior to conducting any transactions (e.g. submitting a grant application). Any organization that registers with the CCR must have a valid DUNS number. To ensure each organization receiving an NSF award and/or subaward has a valid DUNS number, NSF will require potential proposers to register in the CCR prior to proposal submission. This approach aligns with the government-wide efforts described above. The proposed effective date for this policy change is October 1, 2007. Requiring CCR registration effective October 1, 2007 will provide NSF with sufficient time to change NSF proposal preparation requirements to mandate this requirement, as well as validate DUNS numbers in preparation for meeting the FFATA January 1, 2008 milestone to make award data publicly available.

Impact of Policy Change

NSF has analyzed the impact of this proposed policy change and the additional burden associated with it on the Foundation's proposer community. The results of this assessment are as follows:

• CCR states it takes approximately one hour for an organization to complete the online registration, depending upon the size and complexity of the organization. The one hour to complete registration includes the time to read the instructions and to complete the form online. CCR does have handbook users may refer during the registration process. CCR recommends factoring in an additional 15 minutes in the instance the user references the handbook.

• NSF retrieved a list of organizations that submitted proposals to the Foundation in FY 2006 and used a sample (5% error) to determine the percentage of these organizations registered in the CCR.

• A total of 2,677 organizations submitted proposals to NSF in FY 2006.

• Out of the 2,677 organizations that submitted proposals to NSF in FY06, a random sample of 247 organizations was used to verify CCR registration.

• Of the 247 sample organizations, 230 were registered in CCR (93.1%).

• Based on the sample analysis of FY06 data (the 247 sample organizations), it can be concluded that:

• 93.1% of organizations that submitted proposals to NSF in FY06 are already registered in CCR.

• 6.9% of organizations that submitted proposals to NSF in FY06 are not registered in CCR.

• Of the 2,677 organizations that submitted proposals to NSF in FY06, 184 organizations (6.9%) would be impacted by this policy change.

The amount of additional burden associated with this policy change is 230 hours (184 organizations * 1.25 hour to register = 230 hours). On average, it takes CCR three days to process a registration submission.

Respondents: Not-for-profit institutions, for-profit institutions, individuals.

Number of Respondents: 184.

Burden on the Public: 230 additional hours.

Dated: August 15, 2007.
Suzanne H. Plimpton,
Reports Clearance Officer, National Science Foundation.

[FR Doc. 07-4087 Filed 8-20-07; 8:45 am]

BILLING CODE 7555-01-M